DEPARTMENT OF INTERIOR

Fish and Wildlife Service

Preparation of an Environmental Impact Report/Statement for the Western Riverside County, CA, Multiple Species Habitat Conservation Plan

AGENCY: Fish and Wildlife Service, Interior.

SUMMARY: Pursuant to the National Environmental Policy Act, the Fish and Wildlife Service (Service) advises the public that we intend to gather information necessary to prepare, in coordination with the County of Riverside, California (County), a joint Environmental Impact Report/Environmental Impact Statement (EIR/EIS) on the Western Riverside Multiple Species Habitat Conservation Plan (MSHCP). The County and other jurisdictions intend to request Endangered Species Act permits for up to 164 covered species including federally threatened or endangered species and unlisted species that may become listed during the term of the permit. The permit is needed to authorize take of listed species (including harm, injury and harassment) during urban and rural development in the approximately 1.26 million-acre (1,967 square-mile) study area in western Riverside County.

The Service is furnishing this notice to: (1) Advise other Federal and State agencies, affected Tribes, and the public of our intentions; (2) announce the initiation of a 30-day public scoping period; and (3) obtain suggestions and information on the scope of issues to be included in the EIR/EIS.

DATES: We will accept written comments until October 9, 2001.

ADDRESSES: Send comments to Mr. James Bartel, Field Supervisor, U.S. Fish and Wildlife Service, Carlsbad Field Office, 3720 Loker Avenue West, Carlsbad, CA 92008; facsimile (760) 431-9618. Information, comments and/or questions related to the preparation of the EIR and the California Environmental Quality Act process should be submitted to Ms. Kristi Lovelady; P.O. Box 1605; 4080 Lemon Street, 7th Floor; Riverside, CA 92502; facsimile (909) 955-6879.

FOR FURTHER INFORMATION CONTACT: Background information pertaining to the MSHCP may be found in the Conservation Information section of the following web page http:/www.rcip.org/library.htm. For additional information please contact Mr. Jeff Newman, U.S. Fish and Wildlife Service, telephone (760) 431-9440 [see ADDRESSES for Carlsbad Field Office]; or Ms. Kristi Lovelady, County of Riverside, telephone (909) 955-6742 [see ADDRESSES].

SUPPLEMENTARY INFORMATION:

Background

Section 9 of the Endangered Species Act of 1973, as amended, and Federal regulation prohibit the “taking” of a species listed as endangered or threatened. The term “take” means to harass, harm, pursue, hunt, shoot, wound, kill, capture, or collect listed wildlife, or attempt to engage in such conduct. Harm includes habitat modification that kills or injures wildlife by significantly impairing essential behavioral patterns, including breeding, feeding, or sheltering. Under limited circumstances, the Service may issue permits for take of listed species that is incidental to, and not the purpose of, otherwise lawful activities. Regulations governing permits for threatened and endangered species are found in 50 CFR 17.32 and 50 CFR 17.22.

We anticipate that the County and other jurisdictions will request Endangered Species Act permits for up to 164 covered species, including 26 federally threatened or endangered species, and 138 unlisted species that may become listed during the term of the permit. The permits are needed to authorize take of listed species (including harm, injury and harassment) during urban and rural development in rapidly growing western Riverside County.

In the year 2020, the Southern California Association of Governments estimates that Riverside County will be home to approximately 2.8 million people, who will occupy approximately 918,000 dwelling units. This represents a doubling of the County's present population and housing stock. Another study by the California Department of Finance estimates that the County will continue to grow to 3.5 million people by 2030 and 4.5 million people by 2040. These residents will be located within 24 incorporated cities, as well as within numerous unincorporated areas.

The crush of the coming population boom and the challenge of balancing the associated housing, transportation, and economic needs of existing and future populations with limited natural resources and the sensitivity of the natural environment required Riverside County to develop a unique planning model. This model, known as the Riverside County Integrated Project, consists of three integrated regional planning efforts to determine future land use, transportation, and conservation needs for the County. The goals of the effort are three-fold:

1. Update the County's General Plan to describe anticipated future growth over the long term. The General Plan is meant to express the community's goals with respect to both the man-made and natural environments, and set forth the policies and implementation measures needed to achieve those goals for the welfare of those who live, work, and do business in the County. The County's General Plan is being prepared and integrated with the MSHCP. The County is preparing an EIR to address the environmental impacts of the implementation of the County's proposed General Plan.

2. Identify transportation corridors to meet the County's future transportation needs through the Community Environmental and Transportation Acceptability Program (CETAP). The CETAP transportation program is a multi-modal planning effort that considers not only highway options, but also looks at transit and other forms of travel demand management and goods movement. The MSHCP is expected to address the growth facilitating effects of the CETAP corridors and to facilitate requisite environmental clearances for such corridors. Riverside County and the Federal Highway Administration (lead agency for the National Environmental Policy Act) are also preparing two EIR/EISs to address the environmental impacts of the proposed CETAP corridors.

3. Create a MSHCP for the western portion of the County, and integrate ongoing preparation of the Coachella Valley Multi-Species Habitat Conservation Plan into the fabric of comprehensive planning for the County. The western Riverside County MSHCP, which is the subject of this notice, will identify activities resulting in the incidental take of covered species and those actions necessary to conserve these species within a regional reserve system.

Proposed Action and Alternatives To Be Evaluated

In anticipation of receiving permit applications from the County and other jurisdictions, the Service will prepare a joint EIR/EIS with the County, lead agency for the MSHCP. The Service's proposed action is to consider approval of the MSHCP and issuance of incidental take permits to the County and other jurisdictions.

The County's proposed MSHCP will be a comprehensive plan that seeks to conserve up to 164 species within a reserve system of approximately 510,000 acres pursuant to State and Federal endangered species laws. The MSHCP would establish a reserve system, with a focus on conserving species and the habitats upon which they depend, through conservation and management. The MSHCP will describe strategies to conserve federally listed and unlisted species and their habitats identified for inclusion and management, while allowing incidental take of endangered and threatened species associated with development. Development may include residential, commercial, industrial, and recreational development; public infrastructure such as roads and utilities; and maintenance of public facilities. This plan is intended to allow the County and other participating jurisdictions to retain local control over land use decisions, provide for critical public infrastructure projects, and sustain economic growth.

The EIR/EIS for the MSHCP will assist the Service during its decision making process by enabling us to analyze the environmental consequences of the proposed action and a full array of alternatives identified during preparation of the MSHCP. Although specific alternatives have not been prepared for public discussion, the range of alternatives preliminarily identified for consideration include:

1. The No Action/No Project alternative. Conservation would rely on existing or future amended General Plans, growth management programs, habitat management efforts, and continuing project-by-project review and permitting pursuant to the National Environmental Policy Act and sections 7 and 10 of the Endangered Species Act;

2. An alternative for enhanced management of the existing preserves within western Riverside County.

3. A potential conservation scenario for only currently listed and proposed species (i.e., approximately 29 species);

4. A potential conservation scenario for only currently listed, proposed, and certain candidate species (i.e., approximately 36 species); and

5. A more-robust, broad-based ecosystem conservation alternative.

Potentially Significant Impacts of Implementation of the MSHCP

Potentially significant impacts could occur with the implementation of the MSHCP alternatives. These could include impacts to biological resources, land use and planning (land use development patterns), mineral resources, population, housing, economics, and public services (fire protection and parks). For all significant impacts, the EIR/EIS will identify mitigation measures, where feasible.

The following issues will be addressed in the EIR/EIS.

Biological Resources

Incidental take of federally listed species would result from activities covered under the MSHCP. The impacts of take will be discussed in the EIR/EIS. In addition, the implementation of the MSHCP may facilitate development in areas not required for the reserve system, which may result in impacts to species in these areas. These potential impacts related to biological resources will be further addressed in the EIR/EIS.

Land Use and Planning

Included within the MSHCP planning area are 14 cities, State, Federal, and other public jurisdiction lands. Preservation of lands within the proposed MSHCP reserve system may conflict with existing and/or planned policies with respect to land use. The EIR/EIS will address potential MSHCP consistency with local, State and federal land use policies.

Mineral Resources

There may be lands now designated that would not be available for mineral resource extraction as a result of the adoption of the MSHCP. This will be addressed in the EIR/EIS.

Population, Housing, and Economics

The adoption of the MSHCP could cause a change in the distribution, density, or pattern of growth in western Riverside County. With implementation of the MSHCP, growth and development patterns could be shifted from the rural residential and suburban areas to urban centers and community nodes where there is increased access to infrastructure and transportation facilities.

Public Services (Fire Protection and Parks)

The risk of fire could increase at the habitat edges adjacent to existing development. Fire protection impacts will be discussed in the EIR/EIS. While the MSHCP will include a public access component to define potentially compatible activities such as trails, trail heads, and passive recreation, some recreational facilities currently being planned by jurisdictions for areas where core reserves and linkage areas are proposed, may have to be redesigned or relocated. The potential need to relocate a public service or recreational facility will be examined in the EIR/EIS.

Transportation/Traffic

The proposed MSHCP reserve may require eliminating, re-aligning, or designing specific features to avoid and minimize the incidental take of covered species for some planned facilities and programs that support various modes of transportation. The EIR/EIS will analyze these potential impacts.

Indirect Impacts (Growth Inducement)

Authorization of take with the implementation of the MSHCP could remove an impediment to development. This potential impact will be analyzed in the EIR/EIS.

Scoping

We invite the public to participate in the scoping process, review the draft EIR/EIS, and attend public meetings. The location and time of the scoping meetings to be scheduled during the month of September 2001 will be announced in the local news media. We invite comments from all interested parties to ensure that the full range of issues related to the permit requests are addressed and that all significant issues are identified.

We expect a draft EIR/EIS for the MSHCP to be available for public review in Winter 2002. Release of the draft EIR/EIS for public comment and the public meetings will be announced in the local news media, as these dates are established.

Regulatory Authority

We will conduct environmental review of the permit applications in accordance with the requirements of the National Environmental Policy Act of 1969 as amended (42 U.S.C. 4321 et seq.), its implementing regulations (40 CFR parts 1500 through 1508), and with other appropriate Federal laws and regulations, policies, and procedures of the Service for compliance with those regulations.

Dated: August 23, 2001.
Mary Ellen Mueller,
Acting Deputy Manager, California/Nevada Operations Office, Fish and Wildlife Service, Sacramento, California.

[FR Doc. 01-22506 Filed 9-6-01; 8:45 am]

BILLING CODE 4310-55-P